ENVIRONMENTAL PROTECTION AGENCY

40 CFR Part 52

[EPA-R09-OAR-2025-0268; FRL-12868-01-R9]

Air Plan Approval; Guam; Base Year Emissions Inventory for the 2010 1-Hour Sulfur Dioxide National Ambient Air Quality Standard for the Piti-Cabras Nonattainment Area

AGENCY: Environmental Protection Agency (EPA).

ACTION: Proposed rule.

SUMMARY: The Environmental Protection Agency (EPA) is proposing to approve a revision to Guam's State Implementation Plan (SIP) under section 110(k)(3) of the Clean Air Act (CAA or “the Act”). This revision concerns the base year emissions inventory for the Piti-Cabras, Guam sulfur dioxide (SO2) nonattainment area (“Piti-Cabras area” or NAA) for the 2010 1-hour SO2 National Ambient Air Quality Standard (NAAQS, “standard,” or “2010 SO2 NAAQS”). We are taking comments on a proposed approval of this revision and are simultaneously publishing a final action approving this revision in a direct final rule.

DATES: Comments must be received on or before August 15, 2025.

ADDRESSES: Submit your comments, identified by Docket ID No. EPA-R09-OAR-2025-0268 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Khoi Nguyen, Geographic Strategies and Modeling Section, Planning & Analysis Branch, Air & Radiation Division, EPA Region IX, 75 Hawthorne Street, San Francisco, CA 94105; telephone number: 415-947-4120; email address: Nguyen.Khoi@epa.gov.

SUPPLEMENTARY INFORMATION: Throughout this document, “we,” “us,” and “our” refer to the EPA. In the “Rules and Regulations” section of this issue of the Federal Register, the EPA is approving Guam's submission as a direct final rule without prior proposal because we view this as a noncontroversial action and anticipate no adverse comments. A detailed rationale for the action is set forth in the preamble to the direct final rule. If the EPA receives no adverse comments, the EPA contemplates no further action. If the EPA receives adverse comments, the EPA will withdraw the direct final rule and will address all public comments in a subsequent final rule based on this proposed rule. We do not plan to open a second comment period on this action, so anyone interested in commenting should do so at this time. For additional information, see the direct final rule of the same title that is located in the Final Rules section of this Federal Register.

Dated: July 7, 2025.
Joshua F.W. Cook,
Regional Administrator, Region IX.

[FR Doc. 2025-13335 Filed 7-15-25; 8:45 am]

BILLING CODE 6560-50-P